DEPARTMENT OF COMMERCE

International Trade Administration

[A-583-815]

Certain Welded Stainless Steel Pipe From Taiwan: Final Results of Antidumping Duty Administrative Review and Determination To Revoke Order In Part

AGENCY: Import Administration, International Trade Administration, Department of Commerce.

ACTION: Notice of final results in the antidumping duty administrative review of certain welded stainless steel pipe from Taiwan and determination to revoke order in part.

SUMMARY: On December 22, 1999, the Department of Commerce (“Department”) published the preliminary results of the administrative review of the antidumping duty order on certain welded stainless steel pipe from Taiwan. This review covers one manufacturer/exporter of the subject merchandise. The period of review (“POR”) is December 1, 1997 through November 30, 1998.

We gave interested parties an opportunity to comment on the preliminary results. Based upon our verification of the data and analysis of the comments received, we have made changes in the margin calculation. Therefore, the final results differ from the preliminary results of this review. The final weighted-average dumping margin is listed below in the section titled “Final Results of the Review.”

EFFECTIVE DATE: June 26, 2000.

FOR FURTHER INFORMATION CONTACT: Juanita H. Chen or Robert A. Bolling, Enforcement Group III, Office 9, Import Administration, International Trade Administration, U.S. Department of Commerce, 1401 Constitution Avenue, NW., Washington, DC 20230, telephone 202-482-0409 (Chen) or 202-482-3434 (Bolling), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR part 351 (1999).

Background

On December 30, 1992, the Department published the antidumping duty order on certain welded stainless steel pipe from Taiwan. See Certain Welded Stainless Steel Pipe From Taiwan: Amended Final Determination and Antidumping Order, 57 FR 62300 (December 30, 1992). On December 8, 1998, the Department published a notice of opportunity to request administrative review of this order for the period December 1, 1997 through November 30, 1998. See Antidumping or Countervailing Duty Order, Finding, or Suspended Investigation; Opportunity to Request Administrative Review, 63 FR 67646 (December 8, 1998). Both Ta Chen Stainless Pipe Co., Ltd. (“Ta Chen”), a Taiwan producer and exporter of subject merchandise, and Petitioners, Avesta Sheffield Pipe Co., Damascus Tube Division, Damascus-Bishop Tube Co., and the United Steelworkers of America, AFL-CIO/CLC (collectively “Petitioners”), timely requested that the Department conduct an administrative review of Ta Chen's sales. Ta Chen also requested revocation of the Department's antidumping duty order on welded stainless steel pipe from Taiwan. On January 25, 1999, in accordance with section 751(a) of the Act, the Department published in the Federal Register a notice of initiation of this antidumping duty administrative review for the period December 1, 1997 through November 30, 1998 (64 FR 3682).

On December 22, 1999, the Department published the preliminary results of the administrative review in the Federal Register. See Certain Welded Stainless Steel Pipe from Taiwan: Preliminary Results of Antidumping Administrative Review and Intent to Revoke in Part, 64 FR 71728 (December 22, 1999) (“Preliminary Results”). On January 17, 2000 through January 25, 2000, the Department conducted verification of Ta Chen's home market data at Ta Chen's headquarters in Tainan, Taiwan. On April 4, 2000 through April 7, 2000, the Department conducted verification of Ta Chen's U.S. sales data at the Long Beach, California office of Ta Chen's U.S. affiliate, Ta Chen International Corp. (“TCI”). We gave interested parties an opportunity to comment on our Preliminary Results. Ta Chen filed a case brief on May 23, 2000; Petitioners did not file a case brief or a rebuttal brief. No hearing was requested or held. The Department has conducted and completed the administrative review in accordance with section 751 of the Act.

Scope of the Review

The merchandise subject to this administrative review is certain welded austenitic stainless steel pipe (“WSSP”) that meets the standards and specifications set forth by the American Society for Testing and Materials (“ASTM”) for the welded form of chromium-nickel pipe designated ASTM A-312. The merchandise covered by the scope of the order also includes austenitic welded stainless steel pipes made according to the standards of other nations which are comparable to ASTM A-312.

WSSP is produced by forming stainless steel flat-rolled products into a tubular configuration and welding along the seam. WSSP is a commodity product generally used as a conduit to transmit liquids or gases. Major applications for WSSP include, but are not limited to, digester lines, blow lines, pharmaceutical lines, petrochemical stock lines, brewery process and transport lines, general food processing lines, automotive paint lines, and paper process machines.

Imports of WSSP are currently classifiable under the following Harmonized Tariff Schedule of the United States (“HTSUS”) subheadings: 7306.40.5005, 7306.40.5015, 7306.40.5040, 7306.40.5062, 7306.40.5064, 7306.40.5085. Although these subheadings include both pipes and tubes, the scope of this review is limited to welded austenitic stainless steel pipes. Although the HTSUS subheadings are provided for convenience and Customs purposes, our written description of the scope of this order is dispositive.

Analysis of Comments Received

All issues raised in the case brief to this administrative review are addressed in the June 19, 2000 Issues and Decision Memorandum (“Decision Memo”) from Joseph A. Spetrini, Deputy Assistant Secretary, Import Administration, to Troy H. Cribb, Acting Assistant Secretary for Import Administration, which is hereby adopted by this notice. A list of the issues raised and to which we have responded, all of which are in the Decision Memo, and a list of our changes, is attached to this notice as an Appendix. Parties can find a complete discussion of all issues raised in this review and the corresponding recommendations in this public memorandum which is on file at the U.S. Department of Commerce, in the Central Records Unit, in room B-099. In addition, a complete version of the Decision Memo can be accessed directly on the Web at www.ita.doc.gov/import_admin/records/frn. The paper copy and electronic version of the Decision Memorandum are identical in content.

Use of Facts Available

In accordance with section 776 of the Act, we have determined that the use of facts available is appropriate for certain portions of our analysis of Ta Chen. For a discussion of our determination with respect to this matter, see the Decision Memo.

Sales Below Cost in the Home Market

The Department disregarded home market below-cost sales that failed the cost test in the final results of review.

Request for Revocation

On December 29, 1998, Ta Chen submitted a request, in accordance with 19 CFR 351.222(e), that the Department revoke the antidumping duty order on WSSP from Taiwan with respect to Ta Chen. In accordance with 19 CFR 351.222(e), Ta Chen certified that it sold the subject merchandise at not less than normal value for a three-year period, including this review period, and that it sold the subject merchandise in commercially significant quantities to the U.S. during each of these three years.¹ Ta Chen also stated that it would not sell the subject merchandise at less than normal value to the U.S. in the future, and agreed to the reinstatement of the antidumping order, as long as any exporter or producer is subject to the order, if the Department concludes that Ta Chen sold the subject merchandise at less than normal value.

¹ At the Department's request, on October 19, 1999, Ta Chen submitted volume and value data supporting its statement that it sold subject merchandise in commercially significant quantities for three consecutive years.

In the fourth administrative review period, Ta Chen had a de minimis margin of 0.10 percent. See Certain Welded Stainless Steel Pipe from Taiwan: Final Results of Administrative Review, 63 FR 38382 (July 16, 1998). While no fifth administrative review was conducted, the Department's regulations state at 19 CFR 351.222(d) that the Department “need not have conducted a review of an intervening year.” In this sixth administrative review period, Ta Chen had a de minimis margin in the preliminary results. See Preliminary Results, 64 FR at 71734. Because we have determined in the final results for this administrative review that Ta Chen has a de minimis margin (Final Results of the Review, infra), Ta Chen meets the requirement of three consecutive years of zero or de minimis margins on WSSP, and revocation of the order with respect to Ta Chen is granted under 19 CFR 351.222(e).

Changes Since the Preliminary Results

Based on our verification and analysis of the comments received, we have made certain changes in the margin calculation, as discussed in the Decision Memo. In addition, we have made corrections to certain clerical errors in the margin calculation: (1) Errors in currency denomination in the cost of goods sold and the foreign unit price calculations; and (2) an incorrect variable in the selling expense calculation, as discussed in the Analysis Memorandum for Ta Chen (June 9, 2000).

Final Results of the Review

We determine that the following percentage weighted-average margin exists for the period December 1, 1997 through November 30, 1998:

Certain Welded Stainless Steel Pipe
Producer/manufacturer/exporter | Weighted- average margin (percent)
Ta Chen | 0.47

The Department shall determine, and the U.S. Customs Service (“Customs”) shall assess, antidumping duties on all appropriate entries. In accordance with 19 CFR 351.212(b), we have calculated exporter/importer-specific assessment rates. With respect to the constructed export price sales, we divided the total dumping margins for the reviewed sales by the total entered value of those reviewed sales for each importer. We will direct Customs to assess any resulting non-de minimis percentage margins against the entered Customs values for the subject merchandise on each of that importer's entries during the review period.

The Department's revocation decision applies to all entries of subject merchandise produced by Ta Chen and that are also exported by Ta Chen, entered, or withdrawn from warehouse, for consumption on or after December 1, 1998. The Department will order the suspension of liquidation ended for all such entries and will instruct Customs to release any cash deposits or bonds. If applicable, the Department will further instruct Customs to refund with interest any cash deposits on entries made after November 30, 1998.

Cash Deposit Requirements

The following deposit requirements will be effective upon publication of this notice of final results of administrative review for all shipments of certain WSSP from Taiwan entered, or withdrawn from warehouse, for consumption on or after the date of publication, as provided by section 751(a)(1) of the Act: (1) The cash deposit rate for Ta Chen will be zero percent, except that for imports of subject merchandise that are produced by Ta Chen and also exported by Ta Chen, cash deposits will no longer be required and the suspension of liquidation will cease for entries made on or after December 1, 1998; (2) for previously reviewed or investigated companies other than Ta Chen, the cash deposit rate will continue to be the company-specific rate published for the most recent period; (3) if the exporter is not a firm covered in this review, a prior review, or the original less than fair value (“LTFV”) investigation, but the manufacturer is, the cash deposit rate will be the rate established for the most recent period for the manufacturer of the merchandise; and (4) the cash deposit rate for all other manufacturers or exporters will continue to be 19.84 percent. This rate is the “all others” rate from the LTFV investigations. See Amended Final Determination and Antidumping Duty Order; Certain Welded Stainless Steel Pipe from Taiwan, 57 FR 62300 (December 30, 1992).

These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanction.

We are issuing and publishing this determination and notice in accordance with sections 751(a)(1) and 777(i) of the Act.

Dated: June 19, 2000.
Richard W. Moreland,
Acting Assistant Secretary for Import Administration.

Appendix

Issues in Decision Memo:

Changes Since the Preliminary Results

1. Export Price or Constructed Export Price Status

2. Packing Expenses—Allocation of Labor

Discussion of the Issues

1. EP/CEP

a. Calculation and Allocation of U.S. Inventory Carrying Cost (Time on Water)

b. Calculation and Allocation of U.S. Inventory Carrying Cost and Credit Expense (Short-Term Borrowing Cost)

2. Other AD Issues

a. U.S. Date of Sale

b. Advertising

c. Date of Payment

[FR Doc. 00-16103 Filed 6-23-00; 8:45 am]

BILLING CODE 3510-DS-U